NUCLEAR REGULATORY COMMISSION

[Docket No. 72-17]

Portland General Electric Company; Trojan Independent Spent Fuel Storage Installation; Notice of Docketing of Materials License No. SNM-2509; Amendment Application

AGENCY: U.S. Nuclear Regulatory Commission.

ACTION: License amendment.

FOR FURTHER INFORMATION CONTACT: Jill S. Caverly, Project Manager, Spent Fuel Project Office, Office of Nuclear Material Safety and Safeguards, U.S. Nuclear Regulatory Commission, Washington, DC 20555. Telephone: (301) 415-6699; fax number: (301) 415-8555; e-mail: jsc1@nrc.gov.

SUPPLEMENTARY INFORMATION: By letter dated May 23, 2005, Portland General Electric Company (PGEC) submitted an application to the U.S. Nuclear Regulatory Commission (NRC or Commission), in accordance with Title 10 of the Code of Federal Regulations (10 CFR) 72.48(c)(2) and 10 CFR 72.56, requesting an amendment of the Trojan Independent Spent Fuel Storage Installation (ISFSI) license for the ISFSI located in Columbia County, Oregon. PGEC proposes to revise the designated controlled area at the ISFSI such that the boundary would be moved from 300 meters from the edge of the storage pad to 200 meters from the edge of the storage pad.

This application was docketed under 10 CFR part 72; the ISFSI Docket No. is 72-17. Upon approval of the Commission, the Trojan ISFSI License, No. SNM-2509, Safety Analysis would be amended to allow this action.

The Commission may issue either a notice of hearing or a notice of proposed action and opportunity for hearing in accordance with 10 CFR 72.46(b)(1) regarding the proposed amendment or, if a determination is made that the proposed amendment does not present a genuine issue as to whether public health and safety will be significantly affected, take immediate action on the proposed amendment in accordance with 10 CFR 72.46(b)(2) and provide notice of the action taken and an opportunity for interested persons to request a hearing on whether the action should be rescinded or modified.

For further details with respect to this amendment, see the application dated May 23, 2005, which is publically available in the records component of NRC's Agencywide Documents Access and Management System (ADAMS). The NRC maintains ADAMS, which provides text and image files of NRC's public documents. These documents may be accessed through the NRC's Public Electronic Reading Room on the Internet at http://www.nrc.gov/reading-rm/adams.html. If you do not have access to ADAMS or if there are problems in accessing the documents located in ADAMS, contact the NRC Public Document Room Reference staff at 1-800-397-4209, 301-415-4737 or by e-mail to pdr@nrc.gov.

Dated in Rockville, Maryland, this 30th day of June, 2005.
For the Nuclear Regulatory Commission.
Jill S. Caverly,
Project Manager, Licensing Section, Spent Fuel Project Office, Office of Nuclear Material Safety and Safeguards.

[FR Doc. E5-3681 Filed 7-11-05; 8:45 am]

BILLING CODE 7590-01-P